NATIONAL AERONAUTICS AND SPACE ADMINISTRATION

[Notice (05-101)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: June 8, 2005.

FOR FURTHER INFORMATION CONTACT: Edward K. Fein, Patent Counsel, Johnson Space Center, Mail Code HA, Houston, TX 77058-8452; telephone (281) 483-4871; fax (281) 244-8452.

NASA Case No. MSC-23805-1: Advanced Resistive Exercise Device;

NASA Case No. MSC-23781-1: Directional Microwave Applicator And Methods.

Dated: May 31, 2005.
Keith T. Sefton,
Deputy General Counsel, Administration and Management.

[FR Doc. 05-11304 Filed 6-7-05; 8:45 am]

BILLING CODE 7510-13-P